DEPARTMENT OF TRANSPORTATION

Office of the Secretary

[Docket No. OST-1995-246]

North American Free Trade Agreement's Land Transportation Standards Subcommittee and Transportation Consultative Group: Annual Plenary Session

AGENCY: Office of the Secretary (OST), DOT.

ACTION: Notice.

SUMMARY: This notice (1) announces the tenth annual plenary session of the North American Free Trade Agreement's (NAFTA) Land Transportation Standards Subcommittee (LTSS) and the Transportation Consultative Group (TCG) and other related meetings; and (2) invites representatives of non-governmental entities with an interest in land transportation issues to participate in these proceedings and to attend a briefing at a later date. With the exceptions noted below, only U.S., Canadian, and Mexican government officials may attend the plenary and working group meetings.

Background:

The Land Transportation Standards Subcommittee (LTSS) was established by the North American Free Trade Agreement's (NAFTA) Committee on Standards-Related Measures to examine the land transportation regulatory regimes in the United States, Canada, and Mexico, and to seek to make certain standards more compatible. The Transportation Consultative Group (TCG) was formed by the three countries' departments of transportation to address non-standards-related issues that affect cross-border movements among the countries, but that are not included in the NAFTA's LTSS work program (Annex 913.5.a-1).

Meetings and Deadlines:

The tenth annual LTSS/TCG plenary session will be held from June 3 and 4, 2004 at the Hotel Nikko, Campos Eliseos 204, Polanco, Mexico City, Mexico. The following LTSS working groups are expected to meet during the same dates and at the same location: (1) Compliance and Driver and Vehicle Standards; and (2) Hazardous Materials Transportation Standards. The following TCG working groups also are expected to meet: (1) Cross-Border Operations and Facilitation; (2) Rail Safety and Economic Issues; and (3) Science and Technology.

An opportunity will be provided for non-governmental organizations to address officials of the individual working groups regarding issues that concern them and that are within the purview of those working groups. Representatives of the truck, bus, and rail industries, transportation labor unions, brokers and shippers, chemical manufacturers, insurance industry, public safety advocates, and others who wish to take advantage of this opportunity are asked to contact the U.S. chairperson of the group they wish to address. Contact names, addresses and phone numbers are provided later in this notice. Copies of presentations, in English and Spanish, should be mailed to the working group chairs no later than June 2, 2004. This is an opportunity for presenters to voice their concerns, provide technical information, and offer suggestions relevant to achieving greater standards compatibility and improving cross-border trade. While written statements may be of any length, oral presentations will be limited based on the number of presenters to be accommodated. Working group chairs will determine the allowable length of any oral presentation and communicate that to the interested NGOs at least one week prior to the meeting dates. After June 2, statements may be submitted for the record and requests to present oral comments to the working groups will be accommodated only on a time-available basis. Interested parties can make hotel reservations by telephoning Ms. Laura Estrada at the Hotel Nikko at (5255) 283-8700 Ext 8020/7776 and identifying themselves as attendees to the NAFTA LTSS. This will ensure that attendees receive the meeting room rate. A block of guest rooms has been reserved at the hotel for the nights of June 2, 3 and 4. A credit card is required to guarantee payment for all rooms. The hotel also can be reached by email at: lestrada@nikko.com.mx or tjuarez@nikko.com.mx.

A briefing to report on the outcome of the meetings will be conducted in room 10234-10236 at DOT at the address below, on July 12, 2004, from 10 a.m. to 12 p.m. Interested parties may notify DOT of their interest in attending this briefing by calling (202) 366-2892 by July 9.

SUPPLEMENTARY INFORMATION: LTSS-related documents, including past working group reports and statements received by DOT from industry associations, transportation labor unions, public safety advocates, and others are available for review in Docket No. OST-95-246, at the address below, Room PL-401, between 9 a.m. and 5 p.m., (EST) Monday through Friday, except national holidays. The Docket, which is updated periodically, may also be accessed electronically at http://dms.dot.gov. Information about the ninth plenary session can also be found on the DOT NAFTA Web site at http://www.dot.gov/NAFTA.

Address and Phone Numbers:

Individuals and organizations interested in participating in working group sessions must send notice of their interest and copies of their presentations by May 31 to one or more of the following working group chairs:

LTSS Working Groups

Compliance and Driver and Vehicle Standards, Tom Kozlowski—(202-366-4049), Federal Motor Carrier Safety Administration, U.S. Department of Transportation, 400 7th Street, SW., Washington, DC 20590;

Hazardous Materials Transportation Standards, Bob Richard—(202-366-0586), Research & Special Programs Administration, U.S. Department of Transportation, 400 7th Street, SW., Washington, DC 20590.

TCG Working Groups

Cross-Border Operations and Facilitation, Maria Lameiro (202-366-2892), Office of International Transportation & Trade, Office of the Secretary of Transportation, U.S. Department of Transportation, 400 7th Street, SW., Washington, DC 20590;

Rail Safety and Economic Issues, Jane Bachner (202-493-6405), Federal Railroad Administration, U.S. Department of Transportation, 400 7th Street, SW., Washington, DC 20590;

Science and Technology, Rich Biter (202-366-5781), Office of the Secretary of Transportation, U.S. Department of Transportation, 400 7th Street, SW., Washington, DC. 20590.

For additional information, call (202) 366-2892.

Dated: May 24, 2004.
Bernestine Allen,
Director, Office of International Transportation and Trade.

[FR Doc. 04-12133 Filed 5-27-04; 8:45 am]

BILLING CODE 4910-62-P